DEPARTMENT OF LABOR

Employment and Training Administration

[TA-W-53,232]

Fall River Manufacturing II, Gaffney, SC; Notice of Termination of Investigation

Pursuant to section 221 of the Trade Act of 1974, as amended, an investigation was initiated on October 14, 2003, in response to a petition filed on by a company official on behalf of workers of Fall River Manufacturing II, Gaffney, South Carolina.

The petitioner has requested that the petition be withdrawn. Consequently, the investigation has been terminated.

Signed at Washington, DC, this 10th day of November, 2003.
Linda G. Poole,
Certifying Officer, Division of Trade Adjustment Assistance.

[FR Doc. 03-29678 Filed 11-26-03; 8:45 am]

BILLING CODE 4510-30-P